DEPARTMENT OF EDUCATION

National Institute on Disability and Rehabilitation Research (NIDRR)—Disability and Rehabilitation Research Projects and Centers Program—Rehabilitation Research and Training Centers (RRTCs)—Individual-Level Characteristics Related to Employment Among Individuals With Disabilities

AGENCY: Office of Special Education and Rehabilitative Services, Department of Education.

ACTION: Notice of proposed priority.

Catalog of Federal Domestic Assistance (CFDA) Number: 84.133B-1.

SUMMARY: The Assistant Secretary for Special Education and Rehabilitative Services proposes a funding priority for the Disability and Rehabilitation Research Projects and Centers Program administered by NIDRR. Specifically, this notice proposes a priority for an RRTC. The Assistant Secretary may use this priority for competitions in fiscal year (FY) 2010 and later years. We take this action to focus research attention on areas of national need. We intend this priority to improve rehabilitation services and outcomes for individuals with disabilities.

DATES: We must receive your comments on or before January 19, 2010.

ADDRESSES: Address all comments about this notice to Donna Nangle, U.S. Department of Education, 400 Maryland Avenue, SW., room 6029, Potomac Center Plaza (PCP), Washington, DC 20202-2700.

If you prefer to send your comments by e-mail, use the following address: donna.nangle@ed.gov. You must include the term “Proposed Priority for an RRTC on Individual-Level Characteristics Related to Employment Among Individuals with Disabilities” in the subject line of your electronic message.

FOR FURTHER INFORMATION CONTACT: Donna Nangle. Telephone: (202) 245-7462 or by e-mail: donna.nangle@ed.gov.

If you use a telecommunications device for the deaf (TDD), call the Federal Relay Service (FRS), toll free, at 1-800-877-8339.

SUPPLEMENTARY INFORMATION: This notice of proposed priority is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

This notice proposes a priority that NIDRR intends to use for RRTC competitions in FY 2010 and possibly later years. However, nothing precludes NIDRR from publishing additional priorities, if needed. Furthermore, NIDRR is under no obligation to make an award for this priority. The decision to make an award will be based on the quality of applications received and available funding.

Invitation to Comment: We invite you to submit comments regarding this notice. To ensure that your comments have maximum effect in developing the notice of final priority, we urge you to clearly identify the specific topic that each comment addresses.

We invite you to assist us in complying with the specific requirements of Executive Order 12866 and its overall requirement of reducing regulatory burden that might result from this proposed priority. Please let us know of any further ways we could reduce potential costs or increase potential benefits while preserving the effective and efficient administration of the program.

During and after the comment period, you may inspect all public comments about this notice in room 6029, 550 12th Street, SW., PCP, Washington, DC between the hours of 8:30 a.m. and 4:00 p.m., Washington, DC, time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the RRTC program is to improve the effectiveness of services authorized under the Rehabilitation Act of 1973, as amended, through advanced research, training, technical assistance, and dissemination activities in general problem areas, as specified by NIDRR. Such activities are designed to benefit rehabilitation service providers, individuals with disabilities, and the family members or other authorized representatives of individuals with disabilities. In addition, NIDRR intends to require all RRTC applicants to meet the requirements of the General Rehabilitation Research and Training Centers (RRTC) Requirements priority that it published in a notice of final priorities in the Federal Register on February 1, 2008 (72 FR 6132). Additional information on the RRTC program can be found at: http://www.ed.gov/rschstat/research/pubs/res-program.html#RRTC.

Statutory and Regulatory Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties; and

• Serve as centers of national excellence in rehabilitation research for individuals with disabilities, their representatives, providers, and other interested parties.

Applicants for RRTC grants must also demonstrate in their applications how they will address, in whole or in part, the needs of individuals with disabilities from minority backgrounds.

Program Authority: 29 U.S.C. 762(g) and 764(b)(2).

Applicable Program Regulations: 34 CFR part 350.

Proposed Priority

This notice contains one proposed priority.

Individual-Level Characteristics Related to Employment Among Individuals with Disabilities

Background: Individuals with disabilities experience lower rates of employment than those without disabilities, and the disparity in employment rates is seen across all sociodemographic groups (Steinmetz, 2006; U.S. Census Bureau, 2006; U.S. Department of Labor, 2009). This disparity in employment outcomes also extends to other aspects of employment, such as monthly earnings and hourly wages (Ozawa & Yeo, 2006).

Individuals with disabilities are a heterogeneous group and employment-related outcomes for people with disabilities appear to be associated with individual-level characteristics, such as severity of disability and sociodemographic characteristics (Crisp, 2005; Ozawa & Yeo, 2006). Many studies of individual-level characteristics and employment-related outcomes of individuals with disabilities have been based on samples of individuals with a specific disabling condition such as spinal cord injury, making it difficult to generalize findings across disability types (Krause, 2003; Krause & Terza, 2006; Phillips & Stuifbergen, 2006; Walker et al., 2006). In the few studies that have used samples of individuals with a variety of disabilities, disparities in employment outcomes across subpopulations of individuals with disabilities appear to be defined by the characteristics of the individual's disability or sociodemographic group. For example, the likelihood of poor employment outcomes tends to increase with severity of disability (Crisp, 2005; Meade et al., 2004; Ozawa & Yeo, 2006; Phillips & Stuifbergen, 2006; Walker et al., 2006). In addition, poorer employment outcomes are associated with being a member of a minority race or ethnic group or being less well educated (Crisp, 2005; Krause & Terza, 2006; Ozawa & Yeo, 2006; Randolph & Andresen, 2004).

More systematic analyses of cross-disability data are needed to examine the associations among disability and sociodemographic characteristics and employment-related outcomes in order to identify those subpopulations of individuals with disabilities who are most at risk for poor employment outcomes. In addition, there is a need for further information about the barriers to, and facilitators of, employment for specific subpopulations, which can be used to design interventions to improve the employment outcomes of members of these specific subpopulations.

References:

Crisp, R. (2005). Key factors related to vocational outcome: Trends for six disability groups. Journal of Rehabilitation, 71, 30-37.

Krause, J. S. (2003). Years to employment after spinal cord injury. Archives of Physical Medicine & Rehabilitation, 84, 1282-1289.

Krause, J., Terza, J. (2006). Injury and demographic factors predictive of disparities in earnings after spinal cord injury. Archives of Physical Medicine and Rehabilitation, 87, 1318-1326.

Meade, M., A.L., Njeri, J.M., & Hess, D. (2004). Race, employment, and spinal cord injury. Archives of Physical Medicine and Rehabilitation, 85, 1782-1792.

Ozawa, M.N., & Yeo, Y., H. (2006). Work status and work performance of people with disabilities. Journal of Disability Policy Studies, 17, 180-190.

Phillips, L., & Stuifbergen, A. (2006). Predicting continued employment in persons with multiple sclerosis. Journal of Rehabilitation, 72, 35-43.

Randolph, D.W., & Andresen, E.M. (2004). Disability, gender, and unemployment relationships in the United States from the behavioral risk factor surveillance system. Disability & Society, 19, 403-414.

Steinmetz, E. (2006). Americans With Disabilities: 2002. Household Economic Studies Current Population Reports P70-107 Washington, DC: U.S. Census Bureau. See http://www.census.gov/hhes/www/disability/sipp/disable02.html.

U.S. Census Bureau (2006). American Community Survey table B1802: Selected Economic Characteristics for the Civilian Noninstitutionalized Population By Disability Status. Washington, DC: U.S. Census Bureau. See http://factfinder.census.gov/servlet/STTable?_bm=y&-qr_name=ACS_2006_EST_G00_S1802&-geo_id=01000US&-ds_name=ACS_2006_EST_G00_&-_lang=en&-format=&-CONTEXT=st.

U.S. Department of Labor (2009). Labor force statistics from the current population survey. See http://www.bls.gov/cps/cpsdisability.htm.

Walker, W., Marwitz, J., Kreutzer, J., Hart, T., & Novack, T. (2006). Occupational categories and return to work after traumatic brain injury: A multicenter study. Archives of Physical Medicine and Rehabilitation, 87, 1576-1582.

Proposed Priority: The Assistant Secretary for Special Education and Rehabilitative Services proposes a priority for a Rehabilitation Research and Training Center (RRTC) on Individual-Level Characteristics Related to Employment Among Individuals with Disabilities. This RRTC must identify subpopulations of individuals with disabilities who are at risk of poor employment outcomes, and document the barriers to, and facilitators of, employment that these subgroups experience. This new knowledge is intended to serve as a foundation for future interventions research that will target those who are most at risk of poor employment outcomes. The RRTC must be designed to contribute to the following outcomes:

(a) A synthesis of available knowledge about employment disparities among subpopulations of individuals with disabilities. The RRTC must contribute to this outcome by conducting a review and synthesis of existing research on individual-level characteristics related to successful and poor employment outcomes among individuals with disabilities. Such individual-level characteristics may include, but are not limited to the following: disabling condition, severity of disability, age, gender, race, ethnicity, socioeconomic status, education level, and urban/rural status. Successful and poor employment outcomes may be measured by the following indicators: an individual's employment status (e.g., employed, unemployed, underemployed), income, and job retention or promotion. The RRTC must complete this activity by the end of the first year of the grant.

(b) New knowledge about the individual-level characteristics that are most strongly associated with employment-related outcome variables among individuals with disabilities. The RRTC must contribute to this outcome by conducting research on the extent to which employment of individuals with disabilities is related to individual-level characteristics. This research must include, but is not limited to, multivariate analyses of existing national datasets. Analyses of existing data must examine possible variations of employment, including full- or part-time work, self-employment, and industry sector. The RRTC must complete this activity by the end of the second year of the grant.

(c) New knowledge of the employment experiences of individuals who are at risk of poor employment outcomes. The RRTC must contribute to this outcome by collecting and analyzing information from members of subpopulations identified under paragraphs (a) and (b) of this priority. The RRTC must collect individual-level data about the barriers to, and facilitators of, employment that members of these subpopulations have experienced (e.g., the availability of transportation to and from work, social support, workplace accommodations, and employer practices).

(d) Increased incorporation of disability and employment research findings into practice or policy. The RRTC must contribute to this outcome by:

(1) Collaborating with stakeholder groups to develop, evaluate, or implement strategies to promote utilization of the RRTC's research findings.

(2) Conducting training and dissemination activities to facilitate the utilization of the RRTC's research findings by individuals with disabilities, employers, policymakers, and State vocational rehabilitation agencies.

In addition, this RRTC must collaborate with relevant Rehabilitation Services Administration grantees, such as the 10 regional Technical Assistance and Continuing Education projects.

Types of Priorities: When inviting applications for a competition using one or more priorities, we designate the type of each priority as absolute, competitive preference, or invitational through a notice the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority: We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priority justify the costs.

Discussion of Costs and Benefits: The benefits of the Disability and Rehabilitation Research Projects and Centers Programs have been well established over the years in that similar projects have been completed successfully. This proposed priority will generate new knowledge through research and development.

Another benefit of this proposed priority is that the establishment of a new RRTC will improve the lives of individuals with disabilities. The new RRTC will disseminate and promote the use of new information that will improve the options for individuals with disabilities to obtain, retain, and advance in employment.

Intergovernmental Review: This program is not subject to Executive Order 12372 and the regulations in 34 CFR part 79.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site.

Note: The official version of this document is the document published in the Federal Register. Free Internet access to the official edition of the Federal Register and the Code of Federal Regulations is available on GPO Access at: http://www.gpoaccess.gov/nara/index.html.

Dated: December 15, 2009.
Alexa Posny,
Assistant Secretary for Special Education and Rehabilitative Services.

[FR Doc. E9-30188 Filed 12-17-09; 8:45 am]

BILLING CODE 4000-01-P